DEPARTMENT OF THE INTERIOR

Bureau of Land Management

[UT-080-05-1310-DB]

Notice of Availability of a Draft Environmental Impact Statement for the Greater Deadman Bench Region, Uintah County, UT

AGENCY: Bureau of Land Management, Interior.

ACTION: Notice of availability.

SUMMARY: Under the National Environmental Policy Act (NEPA), the Federal Land Policy and Management Act of 1976 (FLPMA) and associated regulations, the Bureau of Land Management (BLM) announces the availability of a Draft Environmental Impact Statement (DEIS) that evaluates, analyzes, and discloses to the public direct, indirect, and cumulative environmental impacts of a proposal to extract and transport natural gas and oil in Uintah County, Utah.

DATES: The DEIS will be available for review for 45 calendar days following the date that the Environmental Protection Agency publishes its NOA in the Federal Register. The BLM can best use comments and resource information submitted within this 45-day review period.

ADDRESSES: Written comments on the DEIS may be mailed directly or delivered to the BLM at: GDBR DEIS, Bureau of Land Management, Vernal Field Office, 170 South 500 East, Vernal, UT 84078. Comments may be submitted by facsimile to the Vernal Field Office at 435-781-4410. At this time BLM is unable to accept electronic comments. A copy of the DEIS has been sent to the affected Federal, State, and local government agencies, Indian Tribes and to interested parties. Copies of the DEIS are available for public inspection at the address above and the Bureau of Land Management Utah State Office, 440 West 200 South, Suite 500, Salt Lake City, UT 84101 and the Bureau of Land Management, Vernal Field Office, 150 South 500 East, Vernal, UT 84078.

FOR FURTHER INFORMATION CONTACT: Stephanie Howard, Project Manager, BLM Vernal Field Office 170 South 500 East, Vernal, UT 84078. Ms. Howard may also be reached at 435-781-4400.

SUPPLEMENTARY INFORMATION: In response to a proposal submitted by Questar E&P (QEP), the BLM published in the December 19, 2003, Federal Register a Notice of Intent (NOI) to prepare an Environmental Impact Statement (EIS).

The Greater Deadman Bench Region (GDBR) involves approximately 98,785 acres located in Townships 6 to 8 South, Ranges 21 and 25 East, Salt Lake Base Meridian, about 20 miles south of Vernal, Uintah County, Utah. The DEIS analyzes the effects of a maximum natural gas and oil development scenario within the GDBR that is conceptual in nature. The final location of well pads, roads, and pipelines would be determined through future site-specific assessments required for each facility. QEP's proposal includes drilling an additional 1,020 natural gas and 219 oil wells and constructing associated ancillary transportation and transmission facilities within the project area. BLM-administered lands account for about 85% (83,860 acres) of surface and mineral estate lands within the BDGR. The State of Utah's Utah State School and Institutional Trust Lands Administration accounts for about 12% (1,440 acres) of surface and mineral estate lands; and the remaining 4% (3,470 acres) consists of various privately owned surface and mineral estate lands within the project area. QEP proposes to drill 1,239 wells at the rate of 100-120 wells per year over a period of 10 years, or until the resource base is fully developed. Of this total number, 891 wells would be drilled at new locations and 348 wells would be drilled from existing well pads.

As set out in the NOI, as of March 2003, the GDBR includes about 278 existing oil and water-injection wells producing from or injecting water into the Green River formation and 300 gas wells producing from the Wasatch formation. About 57 miles of primary roads and 314 miles of secondary roads have been constructed within the region. The new gas wells would be drilled to the Uinta, Green River, Wasatch, Mesaverde, Blackhawk/Mancos, and the Frontier/Dakota formations. The new oil wells would be drilled to the Green River formation.

The DEIS describes in detail and analyzes the impacts of QEP's Proposed Action and the No Action Alternative. The Proposed Action incorporates standard operating procedures and applicant-committed best management practices currently employed on BLM-administered public lands in the Uintah Basin that mitigate impacts to the environment. Six additional alternatives were considered but eliminated from detailed analysis. The following is a summary of the alternatives:

1. Proposed Action—Up to 1,020 natural gas and 219 oil wells would be drilled to the Uinta, Green River, Wasatch, Mesaverde Group, Blackhawk/Mancos and the Frontier/Dakota formations. About 170 miles of new roads and 235 miles of pipelines, 22 new central tank facilities and 15 new gas compressor stations would be constructed to support this proposed development. At this time the Proposed Action is the BLM's preferred alternative.

2. No Action Alternative—Oil and gas development on Federal lands under the Proposed action would not be implemented. However some level of development would continue to occur under APDs previously approved by the authority of the 1985 Book Cliffs RMP. An additional 130 wells would be located on State of Utah and private leases.

3. Alternatives Considered, But Eliminated From Further Analysis—

a. No new development on Federal lands.

b. Suspension of operations for an extended period of time.

c. Exchange of leases.

d. Full-field directional Drilling.

e. Conventional oil and gas development.

f. Best Management Practices (BMP).

The public is encouraged to comment on any of these alternatives.

The BLM welcomes your comments on the Greater Deadman Bench Region DEIS. The BLM asks that those submitting comments make them as specific as possible with reference to chapters, page numbers, and paragraphs in the DEIS document. Comments that contain only opinions or preferences will not receive a formal response; however, they will be considered as part of the BLM decision-making process. The most useful comments will contain new technical or scientific information, identify data gaps in the impact analysis, or will provide technical or scientific rationale for opinions or preferences. It is BLM's practice to make comments, including the names and street addresses of each respondent, available for public review at the BLM office listed above during business hours (7:45 a.m. to 4:30 p.m), Monday through Friday, except for Federal holidays. Your comments may be published as part of the EIS process. Individual respondents may request confidentiality.

If you wish to withhold your name or street address, or both, from public review, or from disclosure under the Freedom of Information Act, you must state this prominently at the beginning of your written comments. Such requests will be honored to the extent allowed by law. BLM will not consider anonymous comments. All submissions from organizations or businesses will be made available for public inspection in their entirety.

William Stringer,
Vernal Field Manager.

[FR Doc. E6-1796 Filed 2-9-06; 8:45 am]

BILLING CODE 4310-22-P